DEPARTMENT OF THE INTERIOR

Bureau of Land Management

[OR-958-6333-ET; GP0-0023; OR-19617(WA), OR-22318 (WA)]

Public Land Order No. 7431; Revocation of Secretarial Orders Dated July 8, 1916 and January 24, 1917; Washington

AGENCY: Bureau of Land Management, Interior.

ACTION: Public Land Order.

SUMMARY: This order revokes, in their entirety, two Secretarial orders as they affect 2,404.11 acres of lands within the Colville Indian Reservation withdrawn for Bureau of Land Management Powersite Reserve Nos. 536 and 568. The lands are no longer needed for the purpose for which they were withdrawn. This action will open the lands to such forms of disposition as may by law be made of Indian Reservation lands.

EFFECTIVE DATE: March 24, 2000.

FOR FURTHER INFORMATION CONTACT: Allison O'Brien, BLM Oregon/ Washington State Office, PO Box 2965, Portland, Oregon 97208-2965, 503-952-6171.

By virtue of the authority vested in the Secretary of the Interior by Section 204 of the Federal Land Policy and Management Act of 1976, 43 U.S.C. 1714 (1994), it is ordered as follows:

1. The Secretarial Orders dated July 8, 1916 and January 24, 1917, which established Powersite Reserve No. 536 and Powersite Reserve No. 568 respectively, are hereby revoked in their entirety:

Willamette Meridian

Colville Indian Reservation

T. 29 N., R. 26 E.,

Sec. 4, lots 4 and 5.

T. 30 N., R. 26 E.,

Sec. 26, lots 3 and 4;

Sec. 35, lot 1.

T. 29 N., R. 30 E.,

Sec. 1, lots 4 and 5, and lots 7 to 11, inclusive;

Sec. 2, lots 6 and 7, and NE¼NE¼.

T. 30 N., R. 30 E.,

Sec. 10, lots 5 to 8, inclusive, NW¼NE¼, and NE¼SE¼;

Sec. 14, SW¼NW¼ and W½SW¼;

Sec. 15, lots 5 to 8, inclusive;

Sec. 22, lots 6 to 10, inclusive;

Sec. 23, W½W½;

Sec. 26, lots 1 to 4, inclusive, and SW¼SE¼;

Sec. 27, lot 5;

Sec. 35, lots 3 to 6, inclusive.

T. 31 N., R. 30 E.,

Sec. 31, lots 3 and 6;

Sec. 32, lots 1 to 4, inclusive;

Sec. 33, lots 3 and 4.

T. 28 N., R. 33 E.,

Sec. 10, lot 1, SE¼SW¼, and areas A and B lying in the NW¼SW¼;

Sec. 13, lots 9 to 17, inclusive;

Sec. 14, lots 8 to 15, inclusive, and areas A and B (formerly lot 7);

Sec. 15, lots 5, 6, 8, 9, and 10.

T. 28 N., R. 34 E.,

Sec. 17, lots 7 to 11, inclusive;

Sec. 18, lots 8, 9, 11, 12, and 13.

The areas described aggregate approximately 2,404.11 acres in Ferry and Okanogan Counties.

2. At 8:30 a.m. on March 24, 2000, the lands will be opened to such forms of disposition as may by law be made of Indian Reservation lands, subject to valid existing rights, the provisions of existing withdrawals, other segregations of record, and the requirements of applicable law.

Dated: March 10, 2000.
Kevin Gover,
Assistant Secretary of the Interior.

[FR Doc. 00-7291 Filed 3-23-00; 8:45 am]

BILLING CODE 4310-33-P